DEPARTMENT OF TRANSPORTATION

Federal Aviation Administration

14 CFR Parts 25, 121, 125, and 135

RIN 2120-AC87 and 2120-AA49

Withdrawal of Rulemaking Actions

AGENCY: Federal Aviation Administration (FAA), DOT.

ACTION: Proposed rules; withdrawal.

SUMMARY: The FAA is withdrawing a notice of proposed rulemaking (NPRM) and an advance notice of proposed rulemaking (ANPRM). This action is necessary due to technological advances that have occurred since we published these documents. The effect of this action is to inform the public of our decision to discontinue work on these proposals. This action is part of our effort to address recommendations of the Government Accounting Office and the Management Advisory Council by reducing the number of items in the Regulatory Agenda.

FOR FURTHER INFORMATION CONTACT: Patrick W. Boyd, Office of Rulemaking (ARM-23), Federal Aviation Administration, 800 Independence Avenue, SW., Washington, DC 20591, telephone 202-267-7320.

SUPPLEMENTARY INFORMATION

Installation of Crashworthy Fuselage Fuel Tanks and Fuel Lines, RIN 2120-AC87

On May 2, 1989, the FAA published an ANPRM seeking information on the feasibility of installing, in all air carrier aircraft, fuselage fuel tanks and fuel lines that are rupture resistant and that disconnect and seal in the event of an accident (54 FR 18824). We issued the ANPRM in response to section 9(a) of the Aviation Safety Research Act of 1988 (Pub. L. 100-591). The comment period closed on October 30, 1989.

Since the FAA published the ANPRM, many technological advancements in fuel tank design have occurred. In addition, we are currently engaged in a process of harmonizing fuel tank and fuel line requirements with the European Joint Aviation Authority. For these reasons, we are withdrawing this ANPRM. We may consider further rulemaking action on this issue in the future.

Fuel System Vent Fire Protection, RIN 2120-AA49

On February 2, 1995, the FAA published an NPRM to amend the airworthiness standards for transport category airplanes to require fuel system vent protection during post-crash ground fires (60 FR 6632). The proposal was the result of information obtained from public hearings on aircraft fire safety and was intended to provide protection against a fuel tank explosion following a post-crash ground fire. The comment period closed on June 2, 1995.

Since the FAA published the NPRM, technological advancements have occurred in this area also. In addition, the issues raised in the NPRM will be addressed by future regulatory action developed within the Aviation Rulemaking Advisory Committee as part of the FAA's program to harmonize its regulations with those of the European Joint Aviation Authorities. The FAA believes future rulemaking action that may be broader in scope and a harmonized proposal will better serve the public interest.

Conclusion

The FAA withdraws the following documents:

• Advance Notice of Proposed Rulemaking entitled, Installation of Crashworthy Fuselage Fuel Tanks and Fuel Lines, RIN 2120-AC87, May 2, 1989, 54 FR 18824; and

• Notice of Proposed Rulemaking entitled, Fuel System Vent Fire Protection, RIN 2120-AA49, February 2, 1995, 60 FR 6632.

Issued in Washington, DC, on August 16, 2002.
John J. Hickey,
Director, Aircraft Certification Service.

[FR Doc. 02-21570 Filed 8-22-02; 8:45 am]

BILLING CODE 4910-13-P